LEGAL SERVICES CORPORATION

Sunshine Act Meetings of the Board of Directors and Four of the Board's Committees

Times and Dates: The Legal Services Corporation Board of Directors and four of its Committees will meet on January 19-20, 2007 in the order set forth in the following schedule, with each meeting commencing shortly after adjournment of the immediately preceding meeting.

Meeting Schedule
| Time
Friday, January 19, 2007
1. Annual Performance Reviews Committee (Performance Reviews Committee) | 10:30 a.m.
2. Provision for the Delivery of Legal Services Committee (Provisions Committee) | 1 p.m.
3. Operations & Regulations Committee
Saturday, January 20, 2007
4. Finance Committee | 9 a.m.
5. Board of Directors.

Location: The Legal Services Corporation, 3333 K Street, NW.—3rd Floor Conference Center, Washington, DC.

Status of Meetings: Open, except as noted below.

• Status: January 19, 2007 Performance Reviews Committee Meeting—Closed. The meeting of the Performance Reviews Committee may be closed to the public pursuant to a vote of the Board of Directors authorizing the Committee to meet in executive session to consider and act on the performance evaluation of the LSC President for calendar year 2006. In addition, the Committee may consider and act on whether and how to undertake an annual performance evaluation of the LSC Inspector General for calendar year 2006. The closing will be authorized by the relevant provision(s) of the Government in the Sunshine Act [5 U.S.C. 552b(c)(6)] and the Legal Services Corporation's corresponding regulation, 45 CFR 1622.5(e). A copy of the General Counsel's Certification that the closing is authorized by law will be available upon request.

• Status: January 20, 2007 Board of Directors Meeting—Open, except that a portion of the meeting of the Board of Directors may be closed to the public pursuant to a vote of the Board of Directors to hold an executive session. At the closed session, the Board may consider and may act on the report of the Annual Performance Reviews Committee on its plans for conducting the performance review of the LSC President and Inspector General, will consider and may act on the General Counsel's report on litigation to which the Corporation is or may become a party, and will receive a briefing from the Inspector General (IG).¹ A verbatim written transcript of the session will be made. The transcript of any portions of the closed session falling within the relevant provisions of the Government in the Sunshine Act [5 U.S.C. 552b(c)(6) and (10)] and LSC's implementing regulation 45 CFR 1622.5(e) and (h) will not be available for public inspection. The transcript of any portions not falling within either of these provisions will be available for public inspection.

¹ Any portion of the closed session consisting solely of staff briefings does not fall within the Sunshine Act's definition of the term “meeting” and, therefore, the requirements of the Sunshine Act do not apply to such portion of the closed session. 5 U.S.C. 552(b)(a)(2) and (b). See also 45 CFR 1622.2 & 1622.3.

Matters to be Considered: Friday, January 19, 2007.

Annual Performance Reviews Committee

Agenda

Closed Session

1. Approval of agenda.

2. Approval of minutes of the Committee's meeting of October 28, 2006.

3. Consider and act on whether and how to undertake an annual performance evaluation of the LSC Inspector General for calendar year 2006.

4. Consider and act on the Performance Evaluation of the President for calendar year 2006.

5. Consider and act on other business.

6. Consider and act on adjournment of meeting.

Provision for the Delivery of Legal Services Committee

Agenda

1. Approval of agenda.

2. Approval of the Committee's meeting minutes of October 27, 2006.

3. Presentation on Private Attorney Involvement:

• Staff report on the LSC strategic work plan on private attorney involvement based on the 2006 work of the Provisions Committee.

4. Presentation on LSC Leadership Mentoring Pilot Project—a cornerstone of the LSC quality initiative:

• This presentation will be done in three parts: The African-American Project Directors Association (AAPDA) will make a presentation to the Committee; LSC staff will present an overview of the Leadership Mentoring Pilot Project; and protégé and mentor participants will share highlights of their experiences in the Pilot Project.

AAPDA Presenter: Lillian Johnson.

Staff Presenters: Evora Thomas, Althea Hayward.

Protégé/Mentor Presenters: Claudia Johnson/Don Isaacs, Peggy Lee/Guy Lescault, Tanya Douglas/Allison Thompson.

5. Public comment.

6. Consider and act on other business.

7. Consider and act on adjournment of meeting.

Operations & Regulations Committee

Agenda

1. Approval of agenda.

1. Approval of the minutes of the Committee's October 27, 2006 meeting.

3. Consider and act on Draft Final Rule revising 45 CFR Part 1621, Client Grievance Procedure:

a. Staff report.

b. Public comment.

4. Staff report on history and implementation of LSC restrictions:

a. Staff report.

b. Public comment.

5. Consider and act on adoption of a regulatory agenda for Operations & Regulations Committee for 2007:

a. OIG report.

b. Staff report.

c. Public comment.

6. Consider and act on adoption of Personnel Manual:

a. Staff report.

b. Public comment.

7. Consider and act on response to OIG Fiscal Practices Report recommendation regarding locality pay for LSC President:

a. Staff report.

b. Public comment.

8. Public comment.

9. Consider and act on other business.

10. Consider and act on adjournment of meeting.

Saturday, January 20, 2007

Finance Committee

Agenda

1. Approval of agenda.

2. Approval of the minutes of the Committee's meeting of October 28, 2006.

3. Presentation of the Fiscal Year 2006 Annual Financial Audit:

• Kirt West, Inspector General.

• Nancy Davis, M.D. Oppenheim.

4. Presentation on LSC's Financial Reports for the first two months of FY 2007:

• Presentation by David Richardson, Treasurer/Comptroller.

• Comments by Charles Jeffress, Chief Administrative Officer.

5. Consider and act on adoption of Revised Temporary Operating Budget for FY 2007:

• David Richardson.

6. Staff report on revisions to LSC travel regulations:

• Charles Jeffress.

7. Staff report on progress of comparison of other federal spending practices (in addition to travel) to LSC spending practices:

• Charles Jeffress.

8. Consider and act on adoption of budget guidelines:

• Victor M. Fortuno, General Counsel.

• Laurie Tarantowicz, OIG.

9. Public comment.

10. Consider and act on other business.

11. Consider and act on adjournment of meeting.

Board of Directors

Agenda

Open Session

1. Approval of agenda.

2. Approval of minutes of the Board's meeting of October 28, 2006.

3. Approval of minutes of the Executive Session of the Board's meeting of October 28, 2006.

4. Approval of minutes of the Board's Open Session Telephonic meeting of November 27, 2006.

5. Approval of minutes of the Board's Open Session Telephonic meeting of December 18, 2006.

6. Consider and act on nominations for the Chairman of the Board of Directors.

7. Consider and act on nominations for the Vice Chairman of the Board of Directors.

8. Consider and act on delegation to Chairman of authority to make Committee assignments.

9. Chairman's Report.

10. Members' Reports.

11. President's Report.

12. Inspector General's Report.

13. Consider and act on the report of the Provision for the Delivery of Legal Services Committee.

14. Consider and act on the report of the Finance Committee.

15. Consider and act on the report of the Operations & Regulations Committee.

16. Staff presentation on LSC's Technology Initiative Grants.

17. Staff presentation on LSC's Competitive Grants Process.

18. Status Report on Performance Measures for Strategic Directions.

19. Consider and act on the selection of locations for LSC Board meetings in calendar year 2008.

20. Consider and act on Director Fuentes' suggestion that Board meet more frequently.

21. Public comment.

22. Consider and act on other business.

23. Consider and act on whether to authorize an executive session of the Board to address items listed below under Closed Session.

Closed Session

24. Consider and act on the report of the Performance Reviews Committee.

25. Consider and act on General Counsel's report on potential and pending litigation involving LSC.

26. IG briefing of the Board.

27. Consider and act on motion to adjourn meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

January 11, 2007.
Victor M. Fortuno,
Vice President for Legal Affairs, General Counsel & Corporate Secretary.

[FR Doc. 07-146 Filed 1-11-07; 4:26 pm]

BILLING CODE 7050-01-P